NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 29, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-10-8, 32 items, 31 temporary items). Records related to agency programs such as waste prevention, recycling, safety and health, and road maintenance. Proposed for permanent retention are case files pertaining to Native American claims.

2. Department of Agriculture, Forest Service (N1-95-10-9, 84 items, 63 temporary items). Records related to various programs throughout the agency, including general correspondence, reports, case files, plans, and studies. Proposed for permanent retention are law enforcement reports and plans; boundary modification case files; land transfer, title, and status files; significant controlled correspondence; planned technology reports; aerial photographs; remote sensing data and imagery; maps; and channel and dam project design case files.

3. Department of the Army, Agency-wide (N1-AU-09-20, 1 item, 1 temporary item). Master files of an electronic system used to track equal opportunity complaints.

4. Department of the Army, Agency-wide (N1-AU-10-11, 1 item, 1 temporary item). Master files of an electronic information system containing force management data, including personnel and equipment requirements and authorizations.

5. Department of the Army, Agency-wide (N1-AU-10-38, 1 item, 1 temporary item). Master files of an electronic information system used to track real property planning criteria, including category codes, design criteria, and land use information.

6. Department of Defense, Office of the Secretary of Defense (N1-330-11-6, 44 items, 38 temporary items). Records relating to administrative functions of the Special Inspector General for Iraq Reconstruction, including office management files, record locators, reference publications, and routine budget and finance files. Proposed for permanent retention are publications, Congressional correspondence, policy files, organizational planning and structure files, press materials, budget justification files, legislative program files, and legal opinions.

7. Department of Homeland Security, U.S. Coast Guard (N1-26-12-1, 2 items, 1 temporary item). Routine search and rescue records which are not fully included in marine information tracking systems. Proposed for permanent retention are records of historically significant search and rescue case files.

8. Department of Homeland Security, U.S. Coast Guard (N1-26-12-3, 5 items, 5 temporary items). Records of the Coast Guard Exchange System scholarship committee, including files for accepted and rejected applicants and committee and conference files.

9. Department of the Interior, Bureau of Land Management, (N1-49-09-17, 5 items, 4 temporary items). Master files of an electronic information system used for wildfire management activities on public lands. Proposed for permanent retention are fire reports from the major Federal fire-fighting agencies.

10. Department of the Interior, Office of the Secretary (DAA-0048-2012-0002, 4 items, 1 permanent item). Records of the Office of Restoration and Damage Assessment, including administrative files, duplicate copies of consent decrees, and allocation records. Proposed for permanent retention are the designation records of the authorized official delegated to act on the behalf of the Secretary of the Interior, including official damage assessments, high level correspondence, final implementation orders of corrective actions, and all supporting documentation.

11. Department of Justice, Criminal Division (DAA-0060-2012-0007, 1 item, 1 temporary item). Master files of an electronic information system used to manage correspondence.

12. Department of Justice, United States Attorneys' Offices (N1-118-11-1, 6 items, 6 temporary items). Master files of electronic information systems providing administrative tracking of grand jury activity.

13. Department of the Navy, Agency-wide (DAA-0343-2012-0001, 6 items, 2 temporary items). Duplicate copies of engineering drawings and technical reports. Proposed for permanent retention are record copies of engineering drawings and technical reports.

14. Department of Transportation, National Highway Traffic Safety Administration (N1-416-05-4, 18 items, 15 temporary items). Records of the Office of the Chief Counsel, including routine litigation files, confidentiality requests, and administrative files. Proposed for permanent retention are legislative rulemaking and review files and significant litigation case files.

15. Department of the Treasury, Internal Revenue Service (N1-58-11-12, 4 items, 4 temporary items). Master files and system documentation of an electronic information system used to rank and score tax returns and identify improperly filed returns and appropriate treatments.

16. Department of the Treasury, Internal Revenue Service (N1-58-11-13, 14 items, 14 temporary items). Collection activity reports used for tracking and reporting purposes.

17. Department of the Treasury, Internal Revenue Service (N1-58-12-7, 4 items, 4 temporary items). Master files, inputs, outputs, and system documentation of an electronic information system used to allocate, bill, and collect fees from pharmaceutical companies for the Medicare Part B Trust Fund.

18. Department of the Treasury, Internal Revenue Service (N1-58-12-8, 5 items, 5 temporary items). Master files and system documentation of electronic information systems used to analyze and monitor excise tax compliance.

19. Department of the Treasury, Internal Revenue Service (N1-58-12-9, 2 items, 2 temporary items). Records documenting privacy protections for information systems, Web sites, and other automated systems that collect personally identifiable information.

20. Department of the Treasury, Internal Revenue Service (N1-58-12-11, 3 items, 3 temporary items). Master files and system documentation of an electronic information system used to track and send correspondence regarding Supplemental Group Ruling Information to exempt organizations.

21. Department of the Treasury, Internal Revenue Service (N1-58-12-12, 2 items, 2 temporary items). Records relating to forms used for the New Markets Tax Credit program that document taxpayers' equity investments and events requiring recapture of tax credit.

22. Department of the Treasury, Internal Revenue Service (N1-58-12-13, 1 item, 1 temporary item). Records including forms and letters used to alert exempt organizations of inadequate record keeping practices and legal requirements.

23. Department of the Treasury, Internal Revenue Service (N1-58-12-14, 2 items, 2 temporary items). Master files and system documentation of an electronic information system used to support strategic planning, budgeting, and performance management processes.

24. Department of the Treasury, Internal Revenue Service (N1-58-12-15, 1 item, 1 temporary item). Records including reports used to identify and track debit vouchers and accounting issues.

25. Consumer Financial Protection Bureau, Agency-wide (N1-587-12-2, 1 item, 1 temporary item). Master files of an electronic information system containing interstate land registration records.

26. Nuclear Regulatory Commission, Office of Nuclear Reactor Regulation (N1-431-09-2, 1 item, 1 temporary item). Master files of an electronic information system containing information on the structural integrity of reactor pressure vessels in licensed nuclear power plants.

Dated: July 23, 2012.
Paul M. Wester, Jr.,
Chief Records Officer for the U.S. Government.

[FR Doc. 2012-18482 Filed 7-27-12; 8:45 am]

BILLING CODE 7515-01-P